DEPARTMENT OF THE INTERIOR

Fish and Wildlife Service

[FWS-R8-ES-2009-XXXXX; 81420-1113-0000-F3]

Proposed Programmatic Safe Harbor Agreement for the Sacramento River Conservation Area Forum in Shasta, Tehama, Butte, Glenn, Colusa, Yolo, and Sutter Counties, CA

AGENCY: Fish and Wildlife Service, Interior.

ACTION: Notice of availability; receipt of application.

SUMMARY: This notice advises the public that the Sacramento River Conservation Area Forum (Applicant) has applied to the U.S. Fish and Wildlife Service (Service) for an Enhancement of Survival Permit under the Endangered Species Act of 1973, as amended (Act). The permit application includes a proposed Safe Harbor Agreement (Agreement) between the Applicant and the Service for the Federally threatened valley elderberry longhorn beetle (Desmocerus californicus dimorphus) and the Federally threatened giant garter snake (Thamnophis gigas) (collectively referred to as the Covered Species). The Agreement is available for public comment.

DATES: To ensure consideration, please send your written comments by January 20, 2010.

ADDRESSES: Send comments to Ms. Kathy Brown, via U.S. Mail at U.S. Fish and Wildlife Service, Sacramento Fish and Wildlife Office, 2800 Cottage Way, W-2605, Sacramento, California 95825; or via facsimile to (916) 414-6713.

FOR FURTHER INFORMATION CONTACT: Ms. Kathy Brown, Sacramento Fish and Wildlife Office (see ADDRESSES); telephone: (916) 414-6600.

SUPPLEMENTARY INFORMATION:

Availability of Documents

You may obtain copies of the document for review by contacting the individual named above. You may also make an appointment to view the document at the above address during normal business hours.

Background

Under a Safe Harbor Agreement, participating landowners voluntarily undertake management activities on their property to enhance, restore, or maintain habitat benefiting species listed under the Act (16 U.S.C. 1531 et seq.). Safe Harbor Agreements, and the subsequent Enhancement of Survival Permits that are issued pursuant to Section 10(a)(1)(A) of the Act, encourage private and other non-Federal property owners to implement conservation efforts for listed species by assuring property owners that they will not be subjected to increased property use restrictions as a result of their efforts to attract listed species to their property, or to increase the numbers or distribution of listed species already on their property. Application requirements and issuance criteria for Enhancement of Survival Permits through Safe Harbor Agreements are found in 50 CFR 17.22(c) and 17.32(c). These permits allow any necessary future incidental take of covered species above the mutually agreed upon baseline conditions for those species in accordance with the terms and conditions of the permits and accompanying agreements.

This Agreement was developed by the Service and the Applicant. The Sacramento River Conservation Area Forum is a non-profit organization that evolved from 1986 State of California legislation (SB1086). The legislation called for a management plan to protect, restore and enhance the fisheries and riparian habitat along the Sacramento River from Keswick Dam down river to Verona, California. This effort is cooperative in nature and works to ensure that habitat restoration and management addresses not only the dynamics of riparian ecosystems, but also the realities of local agricultural and recreational issues associated with land use changes occurring along the Sacramento River.

The Agreement is expected to promote the recovery of the Covered Species on non-Federal properties within the Sacramento River Conservation Area within Shasta, Tehama, Butte, Glenn, Colusa, Yolo, and Sutter Counties. The proposed duration of the Agreement and the associated Enhancement of Survival permit are 30 years. The proposed Enhancement of Survival permit would authorize the incidental taking of the Covered Species associated with: the restoration, enhancement, and maintenance of suitable habitat for the Covered Species; routine activities associated with agricultural lands management; minor flood risk management; and the potential future return of any property included in the Agreement to baseline conditions. Under this Agreement, individual landowners (Cooperators) may include their properties by entering into a Cooperative Agreement with the Applicant. Each Cooperative Agreement will specify the restoration and/or enhancement, and management activities to be carried out on that specific property and a timetable for implementing those activities. All Cooperative Agreements will be reviewed by the Service to determine whether the proposed activities will result in a net conservation benefit for the Covered Species and meet all required standards of the Safe Harbor Policy (64 FR 32717). Upon Service approval, the Applicant will issue a Certificate of Inclusion to the Cooperator. Each Certificate of Inclusion will extend the incidental take coverage conferred by the Enhancement of Survival permit to the Cooperator. Certificates of Inclusion will be valid for a period of 10 years and are renewable during the 30-year term of the Enhancement of Survival permit. Specific determinations for which species will be covered under each Cooperative Agreement will be determined by the Service on a case by case basis and will depend on the type of habitat present and the restoration and/or enhancement activities that will be implemented by the Cooperator.

Baseline levels for the Covered Species will be determined by completing the Baseline Habitat Worksheet (Attachment 4 of the Agreement), which will be completed by a person approved by the Service. The Service will review each baseline determination prior to the Applicant issuing a Certificate of Inclusion to the Cooperator. The Agreement also contains a monitoring component that requires the Applicant to ensure that the Cooperators are in compliance with the terms and conditions of the Agreement and maintaining baseline levels of habitat for the Covered Species. Results of these monitoring efforts will be provided to the Service by the Applicant in an annual report.

Upon approval of this Agreement, and consistent with the Service's Safe Harbor Policy (64 FR 32717), the Service would issue an Enhancement of Survival permit to the Applicant. This permit will authorize Cooperators issued a Certificate of Inclusion take of the Covered Species incidental to the implementation of the management activities specified in the Agreement, incidental to other lawful uses of the property including normal, routine land management activities, and to return to baseline conditions if desired. An applicant would receive assurances under our “No Surprises” regulations (50 CFR 17.22(c)(5) and 17.32(c)(5)) for all species included in the Enhancement of Survival permit. In addition to meeting other criteria, actions to be performed under an Enhancement of Survival permit must not jeopardize the existence of Federally listed fish, wildlife, or plants.

Public Review and Comments

The Service has made a preliminary determination that the proposed Agreement and permit application are eligible for categorical exclusion under the National Environmental Policy Act of 1969 (NEPA). We explain the basis for this determination in an Environmental Action Statement that is also available for public review.

Individuals wishing copies of the Environmental Action Statement, and/or copies of the full text of the Agreement, including a map of the proposed permit area, should contact the office and personnel listed in the ADDRESSES section above.

Before including your address, phone number, e-mail address, or other personal identifying information in your comment, you should be aware that your entire comment—including your personal identifying information—may be made publicly available at any time. While you can ask us in your comment to withhold your personal identifying information from public review, we cannot guarantee that we will be able to do so.

The Service will evaluate this permit application, associated documents, and comments submitted thereon to determine whether the permit application meets the requirements of section 10(a) of the Act and NEPA regulations. If the Service determines that the requirements are met, we will sign the proposed Agreement and issue an enhancement of survival permit under section 10(a)(1)(A) of the Act to the Applicant for take of the Covered Species incidental to otherwise lawful activities in accordance with the terms of the Agreement. The Service will not make our final decision until after the end of the 30-day comment period and will fully consider all comments received during the comment period.

The Service provides this notice pursuant to section 10(c) of the Act and pursuant to implementing regulations for NEPA (40 CFR 1506.6).

Dated: December 14, 2009.
Susan K. Moore,
Field Supervisor, Sacramento Fish and Wildlife Office, Sacramento, California.

[FR Doc. E9-30207 Filed 12-18-09; 8:45 am]

BILLING CODE 4310-55-P